DEPARTMENT OF HEALTH AND HUMAN SERVICES

Meeting of the Secretary's Advisory Committee on Regulatory Reform

AGENCY: Office of the Assistant Secretary for Planning and Evaluation, HHS.

ACTION: Notice of meeting.

SUMMARY: This notice announces a public meeting of the Department of Health and Human Services (HHS) Secretary's Advisory Committee on Regulatory Reform. As governed by the Federal Advisory Committee Act in accordance with Section 10(a)(2), the Secretary's Advisory Committee on Regulatory Reform is seeking guidance for the Department's efforts to streamline regulatory requirements. The Advisory Committee will advise and make recommendations for changes that would be beneficial in four broad areas: health care delivery, health systems operations, biomedical and health research, and the development of pharmaceuticals and other products. The Committee will review changes identified through regional public hearings, written comments from the public, and consultation with HHS staff.

All meetings and hearings of the Committee are open to the general public. The meeting agenda will allow some time for public comment. Additional information on the meeting agenda will be posted on the Committee's Web site prior to the meeting (http://www.regreform.hhs.gov).

DATES: The final full meeting of the Secretary's Advisory Committee on Regulatory Reform will be held on Thursday, November 21, 2002, from 8 am to 6 pm.

ADDRESSES: The hearing will be held in Room 800, Hubert H. Humphrey Building, 200 Independence Ave, SW., Washington, DC. To comply with security requirements, individuals who do not possess a valid Federal identification must present a picture identification, e.g., driver's license or passport upon entry to the Humphrey Building.

FOR FURTHER INFORMATION CONTACT: Margaret P. Sparr, Executive Coordinator, Secretary's Advisory Committee on Regulatory Reform, Office of the Assistant Secretary for Planning and Evaluation, 200 Independence Avenue, SW., Room 344G, Washington, DC 20201, (202) 401-5182.

SUPPLEMENTARY INFORMATION: The Hubert H. Humphrey Building is in compliance with the Americans with Disabilities Act. Sign-language interpretation will be provided for the duration of the meeting. If any individual with a disability needs other reasonable accommodation to participate in the meeting, please contact Dianne Norcutt at Social and Scientific Systems—phone: 301-628-3146; fax: 301-628-3101; e-mail: dnorcutt@s-3.com,; TTY: 800-735-2258.

On June 8, 2001, HHS Secretary Thompson announced a Department-wide initiative to reduce regulatory burdens in health care, to improve patient care, and to respond to the concerns of health care providers and industry, State and local Governments, and individual Americans who are affected by HHS rules. Common sense approaches and careful balancing of needs can help improve patient care. As part of this initiative, the Department established the Secretary's Advisory Committee on Regulatory Reform to provide findings and recommendations regarding potential regulatory changes. These changes would enable HHS programs to reduce burdens and costs associated with departmental regulations and paperwork, while at the same time maintaining or enhancing the effectiveness, efficiency, impact, and access of HHS programs.

Dated: October 30, 2002.
Dr. William Raub,
Deputy Assistant Secretary for Planning and Evaluation.

[FR Doc. 02-28050 Filed 11-4-02; 8:45 am]

BILLING CODE 4151-05-P